DEPARTMENT OF THE INTERIOR

Bureau of Land Management

[LLES962000 L14400000 BJ0000 18X]

Notice of Filing of Plat of Survey; Eastern States

AGENCY: Bureau of Land Management, Interior.

ACTION: Notice of Filing of Plat of Survey; Massachusetts, Stayed.

SUMMARY: On Monday, August 26, 2019, there was published in the Federal Register, Volume 84, Number 165, on page 44632 a notice entitled “Eastern States: Filing of Plats of Survey”. In said notice was a plat depicting the dependent resurvey and corrective dependent resurvey of portions of the boundaries of the “Public Settlement Lands” recited in the Act of August 18, 1987, (Pub. L. 100-95) held in trust for the Mashpee Wampanoag Tribe, in the Town of Aquinnah, Dukes County, in the State of Massachusetts. This plat was accepted April 26, 2019.

The official filing of the plat is hereby stayed, pending consideration of all protests.

Kenneth D. Roy,
Acting Chief Cadastral Surveyor.

[FR Doc. 2019-24861 Filed 11-15-19; 8:45 am]

BILLING CODE 4310-GJ-P